DEPARTMENT OF THE INTERIOR

Bureau of Indian Affairs

Draft Environmental Impact Statement for the Soboba Band of Luiseño Indians' Proposed 534-Acre Trust Acquisition and Casino Project, Riverside County, California

AGENCY: Bureau of Indian Affairs, Interior.

ACTION: Notice of availability.

SUMMARY: This notice advises the public that the Bureau of Indian Affairs (BIA) as lead agency, with the Soboba Band of Luiseño Indians (Tribe), City of San Jacinto and U.S. Environmental Protection Agency (EPA) as cooperating agencies, intends to file a Draft Environmental Impact Statement (DEIS) with the EPA for the Tribe's proposed 534.91± acre trust acquisition and subsequent construction of a hotel/casino project to be located within the City of San Jacinto, Riverside County, California, and that the DEIS is now available for public review and comment. This notice provides a 75-day public comment period and thereby grants a 30-day extension to the normal 45-day public comment period.

DATES: The DEIS will be available for public comment beginning July 2, 2009. Written comments on the DEIS must arrive by September 15, 2009. A public hearing will be held on Wednesday, August 5, 2009 starting at 6 p.m. to 9 p.m. or until the last public comment is received.

ADDRESSES: You may mail or hand-carry written comments to Dale Morris, Regional Director, Pacific Region, Bureau of Indian Affairs 2800 Cottage Way, Sacramento, California 95825.

The public hearing will be held at: Hemet Public Library, 2nd Floor, 300 E. Latham, Hemet, CA 92543

See SUPPLEMENTARY INFORMATION for locations where the DEIS will be available for review and instructions for submitting comments.

FOR FURTHER INFORMATION CONTACT: John Rydzik, (916) 978-6051.

SUPPLEMENTARY INFORMATION: The Soboba Band of Luiseño Indians (Tribe) has requested the BIA to acquire 34 parcels totaling 534.91± acres of land currently held in fee by the Tribe into trust, of which the Tribe proposes to develop approximately 55 acres into a destination hotel/casino complex. The Tribe proposes to relocate its existing casino, which presently resides on trust lands, to the project site. In addition to the fee-to-trust action and casino relocation, the proposed action also includes the development of a 300-room hotel, casino, restaurants, retail establishments, a convention center, an events arena, and a spa and fitness center, within a 729,500± square-foot complex. The proposed developments also include a Tribal fire station, and a 12-pump gas station with a 6,000 square-foot convenience store.

Approximately 300 acres (56 percent) of the project site is incorporated in the City of San Jacinto, California, while the remainder is within unincorporated Riverside County, California. The proposed hotel and casino complex would be generally located at the intersection of Soboba Road and Lake Park Drive and abut the existing Soboba Springs Country Club. Lake Park Drive may or may not be realigned as part of the proposed action contingent upon consultation with the City of San Jacinto.

The BIA, serving as the lead agency for compliance with the National Environmental Policy Act (NEPA), published a Notice of Intent (NOI) to prepare the EIS for the proposed action in the Federal Register on December 14, 2007. The EPA and the City of San Jacinto have accepted invitations to be cooperating agencies, as entities having jurisdiction by law or special expertise relevant to environmental issues.

BIA held a public scoping meeting on January 8, 2008, at the Hemet Public Library in Hemet, California. From that scoping meeting, a range of project alternatives were developed and subsequently analyzed in the DEIS, including: (1) Proposed Action A—Hotel/Casino Complex with Realignment of Lake Park Drive; (2) Proposed Action B—Hotel/Casino Complex without Realignment of Lake Park Drive; (3) Reduced Hotel/Casino Complex; (4) Hotel and Convention Center (No Casino Relocation); (5) Commercial Enterprise (No Casino or Hotel); and (6) No Action alternative. Environmental issues addressed in the DEIS include land resources; water resources; air quality; biological resources; cultural resources; economic and socioeconomic conditions; resource use patterns; public services; other values including noise, hazardous materials, and visual resources; cumulative effects; indirect effects; growth inducing effects; and mitigation measures.

Directions for Submitting Comments

Please include your name, return address, and the caption: “DEIS Comments, Soboba Band of Luiseño Indians' Casino Project,” on the first page of your written comments and submit comments to the BIA address listed in the ADDRESSES section of this notice.

Public Availability of the DEIS

The DEIS will be available for review at:

• The San Jacinto Public Library, 500 Idyllwild Dr., San Jacinto, CA 92583, telephone (951) 654-8635; and

• The Hemet Public Library, 2nd Floor, 300 E. Latham, Hemet, CA 92543, telephone (951) 765-2440.

The DEIS is also available on the following Web site: http://team.entrix.com/clientsite/soboba.nsf.

To obtain a compact disk copy of the DEIS, please provide your name and address in writing to: Chief, Division of Environmental, Cultural Resource Management and Safety, Pacific Regional Office, Bureau of Indian Affairs, 2800 Cottage Way, Room W 2820, Sacramento, CA 95825 or call the number listed in the FOR FURTHER INFORMATION CONTACT section of this notice. Individual paper copies of the DEIS can be provided upon payment of the applicable printing cost for the number of copies requested.

Public Comment Availability

Written comments, including the names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published pursuant to section 1503.1 of the Council of Environmental Quality Regulations (40 CFR parts 1500 through 1508) implementing the procedural requirements of the NEPA of 1969, as amended (42 U.S.C. 4371 et seq.), Department of the Interior Manual (516 DM 1-6) and is in the exercise of authority delegated to the Principal Deputy Assistant Secretary—Indian Affairs by 209 DM 8.1.

Dated: June 11, 2009.
Larry Echo Hawk,
Assistant Secretary—Indian Affairs.

[FR Doc. E9-15435 Filed 7-1-09; 8:45 am]

BILLING CODE P